FEDERAL ELECTION COMMISSION

[Notice 2007-22]

Filing Dates for the Virginia Special Election in the 1st Congressional District

AGENCY: Federal Election Commission.

ACTION: Notice of filing dates for special election.

SUMMARY: Virginia has scheduled a special general election on December 11, 2007, to fill the U.S. House of Representatives seat in the First Congressional District vacated by the late Representative Jo Ann Davis.

Committees participating in the Virginia Special General Election on December 11, 2007, shall file a 12-day Pre-General Report, and a 30-day Post-General Report.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the Virginia Special General Election shall file a 12-day Pre-General Report on November 29, 2007; and a consolidated 30-day Post-General and Year-End Report on January 10, 2008. (See chart below for the closing date for each report).

Unauthorized Committees (PACs and Party Committees)

Political committees filing on a semiannual basis in 2007 are subject to special election reporting if they make previously undisclosed contributions or expenditures in connection with the Virginia Special General Election by the close of books for the applicable report(s). (See chart below for the closing date for each report).

Committees filing monthly that support candidates in the Virginia Special General Election must continue to file according to the monthly reporting schedule.

Additional disclosure information in connection with the Virginia Special Election may be found on the FEC Web site at http://www.fec.gov/info/report_dates.shtml.

Calendar of Reporting Dates for Virginia Special Election
[Committees Involved in the Special General (12/11/07), Must File]
Report | Close of books ¹ | Reg./Cert. & Overnight mailing deadline | Filing deadline
Pre-General | 11/21/07 | 11/26/07 | 11/29/07
Post-General & Year-End ² | 12/31/07 | 01/10/08 | 01/10/08
¹ The period begins with the close of books of the last report filed by the committee. If the committee has filed no previous reports, the period begins with the date of the committee's first activity.
² Committees must file a consolidated Post-General and Year-End Report by the filing date of the Post-General Report.

Dated: November 1, 2007.
David M. Mason,
Vice Chairman, Federal Election Commission.

[FR Doc. E7-21819 Filed 11-5-07; 8:45 am]

BILLING CODE 6715-01-P